DEPARTMENT OF TRANSPORTATION

Federal Aviation Administration

14 CFR Part 39

[Docket No. FAA-2011-0995; Directorate Identifier 2010-NM-243-AD; Amendment 39-16920; AD 2012-01-08]

RIN 2120-AA64

Airworthiness Directives; 328 Support Services GmbH Airplanes

AGENCY: Federal Aviation Administration (FAA), Department of Transportation (DOT).

ACTION: Final rule.

SUMMARY: We are adopting a new airworthiness directive (AD) for all 328 Support Services GmbH (Type Certificate previously held by AvCraft Aerospace GmbH; Fairchild Dornier GmbH; Dornier Luftfahrt GmbH) Model 328-100 and 328-300 airplanes. This AD was prompted by a manufacturer safety analyses review on flight control which resulted in recommendations for reduced repetitive inspection intervals for the flight controls certification maintenance requirements (CMR) of the tab-to-actuator linkage. This AD requires revising the airplane maintenance program by incorporating certain CMR tasks. We are issuing this AD to prevent failure of these components or their constituent parts which could lead to reduced control of the airplane.

DATES: This AD becomes effective February 29, 2012.

The Director of the Federal Register approved the incorporation by reference of certain publications listed in this AD as of February 29, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA 1601 Lind Avenue SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on October 5, 2011 (76 FR 61638). That NPRM proposed to correct an unsafe condition for the specified products. The MCAI states:

Based on in-service experience, the System Safety Analyses for the Flight Controls have been reviewed and their conclusions have been accepted during the latest Candidate Maintenance Coordination Committee meeting.

This review resulted in reduced inspection intervals, specifically for the flight controls tab-to-actuator linkage CMR repetitive inspections, which have been identified as mandatory actions for continued airworthiness.

Failure of these components or their constituent parts could lead to reduced control of the aeroplane.

Consistent with the [European Aviation Safety Agency] EASA policy to require compliance with any new and reduced airworthiness limitations by taking AD action and for the reasons described above, this EASA AD requires the accomplishment of the reduced-interval repetitive inspections and, depending on findings, related corrective action(s). In addition, this [EASA] AD requires the implementation of the affected reduced inspection intervals and associated corrective actions into the operator's approved maintenance programme.

You may obtain further information by examining the MCAI in the AD docket.

Comments

We gave the public the opportunity to participate in developing this AD. We received no comments on the NPRM (76 FR 61638, October 5, 2011) or on the determination of the cost to the public.

Conclusion

We reviewed the available data and determined that air safety and the public interest require adopting the AD as proposed except for minor editorial changes. We have determined that these minor changes:

• Are consistent with the intent that was proposed in the NPRM (76 FR 61638, October 5, 2011) for correcting the unsafe condition; and

• Do not add any additional burden upon the public than was already proposed in the NPRM (76 FR 61638, October 5, 2011).

Costs of Compliance

We estimate that this AD will affect 63 products of U.S. registry. We also estimate that it will take about 1 work-hour per product to comply with the basic requirements of this AD. The average labor rate is $85 per work-hour. Based on these figures, we estimate the cost of this AD to the U.S. operators to be $5,355, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not affect intrastate aviation in Alaska; and

4. Will not have a significant economic impact, positive or negative, on a substantial number of small entities under the criteria of the Regulatory Flexibility Act. We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 61638, October 5, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-01-08 328 Support Services GmbH (Type Certificate Previously Held by AvCraft Aerospace GmbH; Fairchild Dornier GmbH; Dornier Luftfahrt GmbH): Amendment 39-16920. Docket No. FAA-2011-0995; Directorate Identifier 2010-NM-243-AD.

(a) Effective Date

This airworthiness directive (AD) becomes effective February 29, 2012.

(b) Affected ADs

None.

(c) Applicability

This AD applies to 328 Support Services GmbH (Type Certificate Previously Held by AvCraft Aerospace GmbH; Fairchild Dornier GmbH; Dornier Luftfahrt GmbH) Model 328-100 and 328-300 airplanes; certificated in any category; all serial numbers.

(d) Subject

Air Transport Association (ATA) of America Code 27: Flight Controls.

(e) Reason

This AD was prompted by a manufacturer safety analysis review on flight control which resulted in recommendations for reduced repetitive inspection intervals for the flight controls certification maintenance requirements (CMR) of the tab-to-actuator linkage. We are issuing this AD to prevent failure of these components or their constituent parts which could lead to reduced control of the airplane.

(f) Compliance

You are responsible for having the actions required by this AD performed within the compliance times specified, unless the actions have already been done.

(g) Maintenance Program Revision

Within 100 flight hours after the effective date of this AD: Revise the airplane maintenance program by incorporating the applicable CMR tasks identified in table 1 of this AD.

Table 1—CMR Tasks
Model— | Task No.— | Task description— | Identified in—
328-100 airplanes | Task 27-10-00-09 | Visual Check of Mechanical Linkages: Aileron Trim Tab to Actuator | 328 Support Services Dornier 328 Certification Maintenance Requirements Document TM-CMR-010793-ALL, Revision 13, dated April 30, 2007.
328-100 airplanes | Task 27-20-00-09 | Visual Check of Mechanical Linkages: Rudder Trim Tab/Spring Tab to Actuator | 328 Support Services Dornier 328 Certification Maintenance Requirements Document TM-CMR-010793-ALL, Revision 13, dated April 30, 2007.
328-100 airplanes | Task 27-30-00-13 | Visual Check of Mechanical Linkages: Elevator Trim Tabs to Actuator | 328 Support Services Dornier 328 Certification Maintenance Requirements Document TM-CMR-010793-ALL, Revision 13, dated April 30, 2007.
328-300 airplanes | Task 27-10-00-13 | Visual Check of Linkage: Aileron Trim Tab to Actuator | 328 Support Services Dornier 328JET Certification Maintenance Requirements Document TM-CMR-010599-ALL, Revision 2, dated May 1, 2007.
328-300 airplanes | Task 27-20-00-11 | Visual Check of Linkage: Rudder Trim Tab/Spring Tab | 328 Support Services Dornier 328JET Certification Maintenance Requirements Document TM-CMR-010599-ALL, Revision 2, dated May 1, 2007.
328-300 airplanes | Task 27-30-00-14 | Visual Check of Linkage: Elevator Trim Tabs to Actuator | 328 Support Services Dornier 328JET Certification Maintenance Requirements Document TM-CMR-010599-ALL, Revision 2, dated May 1, 2007.

(h) Initial Compliance Time

The initial compliance time for the CMR tasks identified in table 1 of this AD is within 500 flight hours after the most recent inspection, or within 100 flight hours after the effective date of this AD, whichever occurs later.

(i) No Alternative Inspections or Inspection Intervals

After accomplishing the revision required by paragraph (g) of this AD, no alternative inspection or inspection interval may be used unless the inspection or inspection interval is approved as an alternative method of compliance (AMOC) in accordance with the procedures specified in paragraph (j)(1) of this AD.

(j) Other FAA AD Provisions

The following provisions also apply to this AD:

(1) Alternative Methods of Compliance: The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency (EASA) Airworthiness Directive 2010-0054, dated March 25, 2010, and the following service information identified in paragraphs (k)(1) and (k)(2) of this AD; for related information.

(1) 328 Support Services Dornier 328 Certification Maintenance Requirements Document TM-CMR-010793-ALL, Revision 13, dated April 30, 2007.

(2) 328 Support Services Dornier 328JET Certification Maintenance Requirements Document TM-CMR-010599-ALL, Revision 2, dated May 1, 2007.

(l) Material Incorporated by Reference

(1) You must use the following service information to do the actions required by this AD, unless the AD specifies otherwise. The Director of the Federal Register approved the incorporation by reference (IBR) of the following service information under 5 U.S.C. 552(a) and 1 CFR part 51.

(i) 328 Support Services Dornier 328 Certification Maintenance Requirements Document TM-CMR-010793-ALL, Revision 13, dated April 30, 2007. The document number of this document is listed only on the title page of the document.

(ii) 328 Support Services Dornier 328JET Certification Maintenance Requirements Document TM-CMR-010599-ALL, Revision 2, dated May 1, 2007. The document number of this document is listed only on the title page of the document.

(2) For service information identified in this AD, contact 328 Support Services GmbH, Global Support Center, P.O. Box 1252, D-82231 Wessling, Federal Republic of Germany; telephone: +49 8153 88111 6666; fax: +49 8153 88111 6565; email: gsc.op@328support.de; Internet: http://www.328support.de.

(3) You may review copies of the service information at the FAA, Transport Airplane Directorate, 1601 Lind Avenue SW., Renton, Washington. For information on the availability of this material at the FAA, call (425) 227-1221.

(4) You may also review copies of the service information that is incorporated by reference at the National Archives and Records Administration (NARA). For information on the availability of this material at an NARA facility, call (202) 741-6030, or go to http://www.archives.gov/federal_register/code_of_federal_regulations/ibr_locations.html.

Issued in Renton, Washington, on January 13, 2012.
John Piccola,
Acting Manager, Transport Airplane Directorate, Aircraft Certification Service.

[FR Doc. 2012-1126 Filed 1-24-12; 8:45 am]

BILLING CODE 4910-13-P